DEPARTMENT OF HOMELAND SECURITY

Federal Emergency Management Agency

[Docket ID: FEMA-2015-0004; OMB No. 1660—NEW]

Agency Information Collection Activities: Submission for OMB Review; Comment Request; Direct Housing Program Forms

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 15, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@fema.dhs.gov.

SUPPLEMENTARY INFORMATION:

Collection of Information

Title: Direct Housing Program Forms.

Type of information collection: New information collection.

OMB Number: 1660-NW90.

Form Titles and Numbers: FEMA Form 009-0-137, Unit Pad Requirements—Information Checklist; FEMA Form 009-0-131, Sales Calculation Worksheet; FEMA Form 009-0-129, Ready for Occupancy; FEMA Form 009-0-134, Recertification Worksheet; FEMA Form 009-0-135, Temporary Housing Agreement.

Abstract: The Robert T. Stafford Disaster Relief and Emergency Assistance Act authorizes the President to provide temporary housing units to eligible applicants who require temporary housing as a result of a major disaster. 42 U.S.C. 5174. The information collected provides the information necessary to determine the feasibility of the site for placement of temporary housing and so that FEMA can have access to place temporary housing units as well as retrieve it at the end of the use.

Affected Public: Individuals or households; business or other for-profit.

Estimated Number of Respondents: 25,000.

Estimated Total Annual Burden Hours: 4,165 hours.

Estimated Cost: The estimated annual cost to respondents for the hour burden is $157,753.54. There are no annual costs to respondents' operations and maintenance costs for technical services. There is no annual start-up or capital costs. The cost to the Federal Government is $2,864,760.00.

Dated: May 8, 2015.
Janice Waller,
Acting Director, Records Management Division, Mission Support, Federal Emergency Management Agency, Department of Homeland Security.

[FR Doc. 2015-11849 Filed 5-14-15; 8:45 am]

BILLING CODE 9111-23-P